DEPARTMENT OF THE INTERIOR

Bureau of Land Management

[WY090-00-1310-EJ]

Notice of Availability of Final Environmental Impact Statement for the Pinedale Anticline Natural Gas Exploration and Development Project, and Proposed Amendment to the Pinedale Resource Management Plan

AGENCY: Lead Agency—Bureau of Land Management, Interior. Cooperating Agencies—U.S. Forest Service, Department of Agriculture, Corps of Engineers, U.S. Army, State of Wyoming.

ACTION: Notice of Availability of Final Environmental Impact Statement (FEIS) for the Pinedale Anticline Natural Gas Exploration and Development Project, Sublette County, Wyoming, and Notice of 30-day protest period for proposed amendment to the Pinedale Resource Management Plan (RMP).

SUMMARY: The FEIS is an abbreviated FEIS. The FEIS and the Draft EIS (DEIS) comprise the entire document for filing purposes and for the decision making process. Please refer to the DEIS for more detailed analysis and description of the proposed action and alternatives. The FEIS contains 7 Sections. Section 1, Introduction; Section 2, Potential Management Scenario for Continued Exploration and Development; Section 3, Analysis of Revised Sales Gas Pipeline Alternatives; Section 4, Errata; Section 5, Comment Responses and Letters; Section 6, Responses to Environmental Group Notices and Alerts; and Section 7, Public Hearing Comments and Responses. BLM has identified the Resource Protection (RP) Alternative on Federal Lands and Minerals as its preferred alternative based on information contained in the DEIS, comments received during public scoping, and comments received on the DEIS. BLM considers the RP Alternative on All Lands and Minerals to be the environmentally preferred alternative.

The Pinedale Anticline EIS identifies the need for amendment, planning review, and/or maintenance of the following 1988 Pinedale RMP items: (1) The amendment of a Pinedale RMP off-road vehicle (ORV) designation; (2) the update and modification, if necessary, of visual resource management (VRM) classification; and (3) withhold unleased Federal lands and minerals and/or expired leases in the Hoback Basin, southern foothills of the Gros Ventre Range, and the Wind River Front from oil and gas leasing until the effects of leasing these lands can be addressed in a planning review of the Pinedale RMP and Bridger-Teton Leasing EIS.

DATES: Comments on the FEIS will be accepted for 30 days following the date that the Environmental Protection Agency (EPA) publishes their Notice of Availability in the Federal Register. The EPA notice is anticipated to be published on June 2, 2000. Protest of the proposed ORV designation amendment to the Pinedale RMP must be postmarked within 30 days following the date that the Environmental Protection Agency publishes the filing notice for the Final EIS in the Federal Register.

ADDRESSES: Comments on the FEIS should be sent to Bureau of Land Management, Bill McMahan (Project Coordinator), 280 Highway 191 North, Rock Springs, WY 82901, or they can be e-mailed to bill_mcmahan@blm.gov.

Protests on the proposed ORV designation amendment to the Pinedale RMP should be sent to the Director (210), Bureau of Land Management, Attention: Brenda Williams, 1849 C Street NW, Washington, DC 20240.

FOR FURTHER INFORMATION CONTACT: Bill McMahan, Project Coordinator, Bureau of Land Management, Rock Springs, Wyoming 82901, (307) 352-0224.

SUPPLEMENTARY INFORMATION: The DEIS (NOA published by EPA in the Federal Register, November 26, 1999; comment due date February 4, 2000, following State Director approval of a 10 day extension of time for review/comment on the DEIS) analyzed a proposal by the Pinedale Anticline Operators to drill up to 900 new wells to achieve 700 producing locations over the next 10 to 15 years on their leased acreage within the Pinedale Anticline Project Area (PAPA) (approximately 197,345 acres) in western Wyoming. Lands associated with the new drilling program are located between the town of Pinedale, Wyoming, and the Jonah Natural Gas Field (30 miles south); and between the Green River on the west and Wyoming Highway 191 on the east (between 8 and 15 miles wide). Comments were received on the DEIS from a number of groups. A total of 235 comment letters were received. BLM held a public hearing on January 12, 2000. A total of 86 people signed in at the hearing—17 gave statements. BLM responses to each comment letter and hearing comments are included in Sections 5, 6, and 7 of the FEIS.

Factors Affecting Pinedale Resource Management Plan (RMP) Completed in 1988—The Pinedale Anticline EIS addresses the need for amendment, planning review, and/or maintenance of the Pinedale RMP. The EIS identifies that (1) the RMP decision designating portions of the PAPA as “open” to off-road vehicle (ORV) use should be amended from “open” to “limited to existing roads and trails” to protect surface values and to be consistent with other oil/gas development areas; (2) the visual resource management (VRM) classification for the VRM classifications within the Resource Area need to be updated and the RMP modified if necessary; and (3) all Federal lands and minerals that are unleased and/or that have expired leases in the Hoback Basin, southern foothills of the Gros Ventre Range, and the Wind River Front should be withheld from oil and gas leasing until the effects of leasing these lands can be addressed in a planning review to determine any needed modification to the 1988 Pinedale RMP and to the Bridger-Teton Leasing EIS (Management Areas 21, 45, 71, and 72).

The RMP planning review for the identified areas (see Pinedale Anticline DEIS Figure 5-2) would address new issues and concerns for air quality related values, protection of scenic values of the mountain ranges, protection of the new and/or more densely populated rural subdivisions occurring on private surface underlain by Federal minerals, and other resource concerns. An analysis of these factors may affect Federal mineral leasing and other Federal authorizations on the described lands.

The Pinedale Anticline EIS proposal to amend the Pinedale RMP ORV “open” area designation to “limited to existing roads and trails” is protestable. This is the only part of the Pinedale Anticline EIS that is protestable under the BLM Planning Regulations (43 CFR 1610.5-2). Anyone disagreeing with the proposed decision to change the ORV designation within the Pinedale Anticline project area must file a written protest within the 30-day review period for the FEIS. The proposed amendment may be protested by parties who participated in the Pinedale Anticline EIS process, who have an interest which is or may be adversely affected by the proposed change, and who raised issue with ORV use during the EIS process. The protest must include the following information: (1) The name, mailing address, telephone number, and interest of the person filing the protest; (2) a statement of the issue(s) submitted during the DEIS review process by the protesting party, or an indication of the date the issue(s) were discussed for the record; (3) a statement of the part(s) of the recommendation being protested; (4) a copy of all documents addressing the issue(s) that were submitted during the DEIS review process by the protesting party, or an indication of the date the issue(s) were discussed for the record; and (5) a concise statement explaining why the proposed decision is believed to be wrong.

At the end of the 30-day protest period, the proposed change, if not protested, will become final. If a protest is received, approval of oil and gas development will be based upon the existing ORV designation until final action on the protest has been completed. Any significant change made as a result of a protest will be made available for public review and comment before it is approved.

This DEIS, in compliance with section 7(c) of the Endangered Species Act (as amended), includes the Biological Assessment for the purpose of identifying any endangered or threatened species which are likely to be affected by the proposed action.

Dated: May 12, 2000.
Alan L. Kesterke,
Associate State Director.

[FR Doc. 00-12495 Filed 5-17-00; 8:45 am]

BILLING CODE 4310-22-P